DEPARTMENT OF DEFENSE

Office of the Secretary

[Docket ID: DoD-2023-OS-0027]

Proposed Collection; Comment Request

AGENCY: Office of the Under Secretary of Defense for Policy (OUSD(P)), Department of Defense (DoD).

ACTION: 60-Day information collection notice.

SUMMARY: In compliance with the Paperwork Reduction Act of 1995, the OUSD(P) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 12, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please contact Pauline Kusiak at osd.pentagon.ousd-policy.list.policy-lod-office@mail.mil, 703-695-7386 or write to OUSD(P) Leadership and Organizational Development, 2000 Defense Pentagon, Washington, DC 20301.

SUPPLEMENTARY INFORMATION:

Title; Associated Form; and OMB Number: Policy Pulse Survey; OMB Control Number 0704-0570.

Needs and Uses: The Office of the Secretary of Defense for Policy (OSD-P) Pulse Survey, is necessary to obtain and record responses from government and contractor personnel employed within the Office of the Under Secretary of Defense for Policy and its components. The survey is used to assess the progress of the current human capital strategy and to capture emerging human capital and training issues per instructions of the Undersecretary of Defense for Policy. Primary authority to conduct this survey is the OUSD-P Charter USDP 5111.01 June 23, 2020, Section 4, Paragraph (i) 2: “Obtain reports, information, advice, and assistance, consistent with DoD Directive 8910.01 (reference (g)), as necessary to carry out assigned functions.” The DoD Directive 8910.01 was reissued as DoDI 8910.1. In Chapter 2, Section 3 of DoDI 8910.01, the instruction states that it applies to, “the collection of information to satisfy statutory and interagency requirements and those in support of all management functions”.

Affected Public: Individuals or households.

Annual Burden Hours: 274.89.

Number of Respondents: 833.

Responses per Respondent: 1.

Annual Responses: 833.

Average Burden per Response: 0.33 hours.

Frequency: Annually.

The Leadership and Organizational Development Office (LOD) administers the Pulse Survey to OSD-Policy employees exclusively via an anonymous, web-based questionnaire. The survey is available to the entire OSD-Policy workforce, including civilians, military, detailees, and contractors. OSD-P employee participation will provide insight into OSD-P organizational culture and climate, and identify areas of improvement for human capital initiatives.

This questionnaire is hosted on the intranet SharePoint site used by OSD-P and is only accessible to OSD-P employees. Employees are notified by email when the survey is accessible. Each respondent is asked 33 questions covering training, leadership behavior, professional development, and working environment. The responses are anonymous. The only identifying information supplied by the respondents is their affiliation: what office they belong to, how long they have worked for Policy, and what category of employee they are (e.g. GS civilian, military, detailee, etc.).

Dated: April 5, 2023.
Aaron T. Siegel,
Alternate OSD Federal Register Liaison Officer, Department of Defense.

[FR Doc. 2023-07493 Filed 4-10-23; 8:45 am]

BILLING CODE 5001-06-P